SMALL BUSINESS ADMINISTRATION

[Disaster Declaration #13367 and #13368]

New Jersey Disaster #NJ-00033

AGENCY: U.S. Small Business Administration.

ACTION: Notice.

SUMMARY: This is a Notice of the Presidential declaration of a major disaster for the State of New Jersey (FEMA-4086-DR), dated 10/30/2012.

Incident: Hurricane Sandy.

Incident Period: 10/26/2012 and continuing.

Effective Date: 10/30/2012.

Physical Loan Application Deadline Date: 12/31/2012.

Economic Injury (EIDL) Loan Application Deadline Date: 07/31/2013.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: Notice is hereby given that as a result of the President's major disaster declaration on 10/30/2012, applications for disaster loans may be filed at the address listed above or other locally announced locations.

The following areas have been determined to be adversely affected by the disaster:

Primary Counties (Physical Damage and Economic Injury Loans): Atlantic; Cape May; Essex; Hudson; Middlesex; Monmouth; Ocean; Union.

Contiguous Counties (Economic Injury Loans Only):

New Jersey: Bergen; Burlington; Camden; Cumberland; Gloucester; Mercer; Morris; Passaic; Somerset.

New York: New York.

The Interest Rates are:

| Percent
For Physical Damage:
Homeowners With Credit Available Elsewhere: | 3.375.
Homeowners Without Credit Available Elsewhere: | 1.688.
Businesses With Credit Available Elsewhere: | 6.000.
Businesses Without Credit Available Elsewhere: | 4.000.
Non-Profit Organizations With Credit Available Elsewhere: | 3.125.
Non-Profit Organizations Without Credit Available Elsewhere: | 3.000.
For Economic Injury:
Businesses & Small Agricultural Cooperatives Without Credit Available Elsewhere | 4.000.
Non-Profit Organizations Without Credit Available Elsewhere | 3.000.

The number assigned to this disaster for physical damage is 133678 and for economic injury is 133680.

(Catalog of Federal Domestic Assistance Numbers 59002 and 59008)

James E. Rivera,
Associate Administrator for Disaster Assistance.

[FR Doc. 2012-27657 Filed 11-13-12; 8:45 am]

BILLING CODE 8025-01-P